DEPARTMENT OF ENERGY

Federal Energy Regulatory Commission

[Project No. 2955-011]

City of Watervliet; Notice of Settlement Agreement and Soliciting

Comments

Take notice that the following settlement agreement has been filed with the Commission and is available for public inspection.

a. Type of Application: Settlement Agreement.

b. Project No.: 2955-011.

c. Date filed: September 2, 2022.

d. Applicant: City of Watervliet, New York.

e. Name of Project: Normanskill Hydroelectric Project.

f. Location: The existing project is located on the Normans Kill in the Town of Guilderland in Albany County, New York and approximately 22.4 river miles upstream of the mouth of the Hudson River. The project does not affect federal land.

g. Filed Pursuant to: Rule 602 of the Commission's Rules of Practice and Procedure, 18 CFR 385.602.

h. Applicant Contact: Michele E. Stottler, Gomez and Sullivan Engineers, DPC, 399 Albany Shaker Road, Suite 203, Loudonville, NY 12211; (518) 407-0050; email—mstottler@gomezandsullivan.com or Joseph LaCivita, General Manager, The City of Watervliet, 2 Fifteenth Street, Watervliet, NY 12189; (518) 270-3800; email—jlacivita@watervliet.com.

i. FERC Contact: Woohee Choi, (202) 502-6336, woohee.choi@ferc.gov.

j. Deadline for Filing Comments: September 28, 2022. Reply comments due October 11, 2022.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2955-011.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The City of Watervliet filed the Settlement Agreement on behalf of itself, the U.S. Fish and Wildlife Service, the New York State Department of Environmental Conservation, and the Town of Guilderland. The purpose of the Settlement Agreement is to resolve, among the signatories, issues related to operational, fisheries, wildlife, water quality, and recreation resources associated with issuance of a subsequent license and water quality certification for the project. Specifically, the Settlement Agreement includes proposed protection, mitigation, and enhancements measures to address eel passage, streamflow and water level monitoring, water quality management, bat and eagle protection, invasive species management, and recreation. The City of Watervliet states that the terms of the Settlement Agreement are an integrated and individual set of measures intended to address and balance non-power and power values relating to the project and requests that the Commission approve the Settlement Agreement and incorporate the proposed measures set forth in section 3 into any subsequent license issued.

l. A copy of the settlement agreement may be viewed on the Commission's website at http://www.ferc.gov using the “eLibrary” link. Enter the docket number, excluding the last three digits, in the docket number field to access the document (i.e., P-2955). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

Dated: September 8, 2022.
Kimberly D. Bose,
Secretary.

[FR Doc. 2022-19931 Filed 9-14-22; 8:45 am]

BILLING CODE 6717-01-P